DEPARTMENT OF ENERGY

Federal Energy Regulatory Commission

Combined Notice of Filings

Take notice that the Commission has received the following Natural Gas Pipeline Rate and Refund Report filings:

Filings Instituting Proceedings

Docket Number: PR18-15-001.

Applicants: SCOOP Express, LLC.

Description: Tariff filing per 284.123(b),(e)+(g): SCOOP Express Amended SOC filing Feb 12 2018 to be effective 12/22/2017.

Filed Date: 2/12/18.

Accession Number: 201802125088.

Comments Due: 5 p.m. ET 3/5/18.

284.123(g) Protests Due: 5 p.m. ET 3/5/18.

Docket Number: PR18-29-000.

Applicants: National Fuel Gas Distribution Corporation.

Description: Tariff filing per 284.123(b)(2)+(: Application of National Fuel Gas Distribution Corporation to Amend Rates to be effective 2/12/2018.

Filed Date: 2/12/18.

Accession Number: 201802125178.

Comments/Protests Due: 5 p.m. ET 3/5/18.

Docket Numbers: RP18-438-000.

Applicants: Guardian Pipeline, L.L.C.

Description: § 4(d) Rate Filing: Negotiated Rate PAL Agreements—Wisc. Electric Power Company to be effective 3/1/2018.

Filed Date: 2/13/18.

Accession Number: 20180213-5184.

Comments Due: 5 p.m. ET 2/26/18.

Docket Numbers: RP18-439-000.

Applicants: Northern Natural Gas Company.

Description: Northern Natural Gas submits report of the penalty and daily delivery variance charge (DDVC) revenues that have been credited to shippers.

Filed Date: 2/13/18.

Accession Number: 20180213-5217.

Comments Due: 5 p.m. ET 2/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2018.
Nathaniel J. Davis, Sr.,
Deputy Secretary.

[FR Doc. 2018-03505 Filed 2-20-18; 8:45 am]

BILLING CODE 6717-01-P